DEPARTMENT OF TRANSPORTATION

Office of the Secretary

14 CFR Part 399

[Docket No. DOT-OST-2019-0182]

RIN 2105-AE72

Defining Unfair or Deceptive Practices

AGENCY: Office of the Secretary (OST), U.S. Department of Transportation (DOT).

ACTION: Grant of request for extension of comment period.

SUMMARY: On February 28, 2020, the U.S. Department of Transportation (Department or DOT) published in the Federal Register a Notice of Proposed Rulemaking (NPRM) on Defining Unfair or Deceptive Practices. The NPRM provided a 60-day comment period that was set to close on April 28, 2020. Nine consumer organizations asked the Department to extend the comment period on the NPRM. To allow interested persons more time to submit their comments, the Department has determined that an extension of the comment period for an additional 30 days is appropriate.

DATES: The comment period for the NPRM, published February 28, 2020 (85 FR 11881), on Defining Unfair or Deceptive Practices is extended to May 28, 2020.

ADDRESSES: You may review the request to extend the public comment period and other comments received under Docket Number OST 2019-0182 through the Federal eRulemaking Portal at http://www.regulations.gov.

FOR FURTHER INFORMATION CONTACT: Robert Gorman, Senior Attorney, Office of Aviation Enforcement and Proceedings, U.S. Department of Transportation, 1200 New Jersey Ave. SE, Washington, DC 20590, 202-366-9342, 202-366-7152 (fax), robert.gorman@dot.gov (email). You may also contact Blane Workie, Assistant General Counsel, Office of Aviation Enforcement and Proceedings, Department of Transportation, 1200 New Jersey Ave. SE, Washington, DC 20590, 202-366-9342, 202-366-7152 (fax), blane.workie@dot.gov.

SUPPLEMENTARY INFORMATION: On February 20, 2020, the Department announced the issuance of the NPRM on Defining Unfair or Deceptive Practices and placed a copy of the NPRM on the Department's website at https://www.transportation.gov/airconsumer/latest-news and on the Federal eRulemaking Portal at http://www.regulations.gov. On February 28, 2020, the NPRM was published in the Federal Register, and interested parties were asked to provide comments on or before April 28, 2020. The NPRM also stated that late-filed comments will be considered to the extent practicable.

The NPRM on Defining Unfair or Deceptive Practices is intended to provide greater clarity and certainty about the Department's interpretation of unfair or deceptive practices in the context of aviation consumer protection rulemaking and enforcement actions. By written request, filed April 10, 2020, the National Consumers League, along with eight other consumer advocacy organizations,¹ asked the Department to extend the comment period on the NPRM until sixty days following the termination of the President's national emergency declaration with respect to the Coronavirus Disease 2019 (COVID-19). The advocates assert that the COVID-19 public health emergency has created difficulties for advocates in researching and coordinating their responses, and in contacting consumers to provide testimonials with respect to the NPRM.

¹ In addition to the National Consumers League, the letter requesting an extension of the comment period was signed by Business Travel Coalition, Consumer Action, Consumer Federation of America, Consumer Reports, EdOnTravel.com, FlyersRights.org, Travel Fairness Now, and Travelers United.

Airlines for America (A4A) filed a letter in the docket opposing the request. A4A notes that the NPRM is deemed non-significant. A4A also states that because the NPRM was issued in late February, stakeholders have had adequate time to formulate a response.

The Department has considered the request to extend the comment period on the NPRM beyond the published 60-day comment period carefully. Given the assertion from nine major consumer advocacy organizations that the COVID-19 public health emergency has made it difficult, if not impossible, for them to produce comments that would substantially add to the record of this rulemaking by April 28, 2020, and the low number of comments that the Department has received on this rulemaking to date, the Department believes it is appropriate to provide the public more time to submit comments on this rulemaking. However, the Department finds that extending the comment period to a date 60 days after the termination of the President's COVID-19 national emergency declaration may unduly delay the timely issuance of this priority rulemaking. Accordingly, the Department is extending the comment period for an additional 30 days to May 28, 2020, which should allow interested parties more time to prepare comments to the proposed rule without delaying the rulemaking. The Department will continue to consider late-filed comments to the extent practicable.

Issued this 23rd day of April 2020, in Washington, DC, under authority delegated in 49 CFR 1.27(n).
Christina G. Aizcorbe,
Deputy General Counsel.

[FR Doc. 2020-08996 Filed 5-4-20; 8:45 am]

BILLING CODE 4910-9X-P